EXPORT-IMPORT BANK

Sunshine Act Meetings

Notice of an Open Meeting of the Board of Directors of the Export-Import Bank of the United States.

TIME AND DATE: Thursday, September 16, 2020 at 9:30 a.m.

PLACE: The meeting will be held via teleconference.

STATUS: The meeting will be open to public observation for Item Numbers 1 and 2.

MATTERS TO BE CONSIDERED:

1. Appointment of EXIM Advisory Committee for 2021-22.

2. Appointment of EXIM Sub-Saharan Africa Advisory Committee for 2021-22.

CONTACT PERSON FOR MORE INFORMATION: Joyce B. Stone, (202-257-4086). Members of the public who wish to attend the meeting via teleconference should register via using the link below:

Register Here

By noon Wednesday, September 15, 2021. Individuals will be directed to a Webinar registration page and provided call-in information.

Joyce B. Stone,
Assistant Corporate Secretary.

[FR Doc. 2021-19602 Filed 9-8-21; 11:15 am]

BILLING CODE 6690-01-P